DEPARTMENT OF ENERGY

Federal Energy Regulatory Commission

[Docket No. CP01-400-001]

Transcontinental Gas Pipe Line Corporation; Notice of Compliance Filing

October 21, 2003.

Take notice that on October 15, 2003, Transcontinental Gas Pipe Line Corporation (Transco) tendered for filing as part of its FERC Gas Tariff, Original Volume No. 2, the following tariff sheets, with an effective date of August 31, 2001:

Fifteenth Revised Sheet No. 1A

Tenth Revised Sheet No. 1-A.1

Third Revised Sheet No. 1434

First Revised Sheet No. 2624

Transco states that the filing is being made in compliance with the Commission's Order issued on August 31, 2001 in Docket No. CP01-400-000.

Transco states that the above sheets reflect the termination of Transco's Rate Schedules X-158 and X-253 from Transco's Original Volume No. 2 FERC Gas Tariff, and their associated deletion from the Table of Contents in Transco's Volume No. 2.

Transco states that copies of the filing are being mailed to its affected customers and interested state commissions.

Any person desiring to protest said filing should file a protest with the Federal Energy Regulatory Commission, 888 First Street, NE., Washington, DC 20426, in accordance with Section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: November 5, 2003.

Magalie R. Salas,
Secretary.

[FR Doc. E3-00124 Filed 10-27-03; 8:45 am]

BILLING CODE 6717-01-P